DEPARTMENT OF HEALTH AND HUMAN SERVICES

Substance Abuse and Mental Health Services Administration

Notice of Knowledge Dissemination Conference Grants Program Announcement (Short Title: SAMHSA Conference Grants) PA 05-001

Authority: Sections 520A, 516 and 509 of the Public Health Service Act, as amended and subject to the availability of funds.

AGENCY: Substance Abuse and Mental Health Services Administration, HHS.

SUMMARY: The United States Department of Health and Human Services (HHS), Substance Abuse and Mental Health Services Administration's (SAMHSA) Center for Mental Health Services (CMHS), Center for Substance Abuse Prevention (CSAP), and Center for Substance Abuse Treatment (CSAT) are accepting applications for Knowledge Dissemination Conference Grants (also known as SAMHSA Conference Grants). The purpose of the Conference Grant program is to disseminate knowledge about practices within the mental health services and substance abuse prevention and treatment fields and to integrate that knowledge into real-world practice as effectively and efficiently as possible.

DATES: SAMHSA anticipates that there will be two cycles of awards each year. Applications must be received by January 10 for the first review cycle and September 10 for the second review cycle. Applications are due by close of business on January 10 and September 10. If the receipt date falls on the weekend, it will be extended to the following Monday.

FOR FURTHER INFORMATION CONTACT:

For questions on mental health topics, contact: David Morrissette, DSW, Center for Mental Health Services/SAMHSA, 5600 Fishers Lane, Room 11C-22, Rockville, MD 20857, (301) 443-3653, E-mail: dmorriss@samhsa.gov.

For questions on substance abuse treatment topics, contact: Kim Plavsic, Center for Substance Abuse Treatment/SAMHSA, 5515 Security Lane, Suite 740, Rockville, MD 20852, (301) 443-7916, E-mail: kplavsic@samhsa.gov.

For questions on substance abuse prevention topics, contact: Rosa I. Merello, Ph.D., Public Health Advisor, Center for Substance Abuse Prevention/SAMHSA, 5515 Security Lane, Suite 800, Rockville, MD 20852, Phone: (301) 443-7462, E-mail: remerello@samhsa.gov.

For questions on grants management issues, contact: Kathleen Sample, Office of Program Services, Grants Management Branch/SAMHSA, 5600 Fishers Lane/Rockwall II, Room 630, Rockville, MD 20857, (301) 443-9667, E-mail: ksample@samhsa.gov.

SUPPLEMENTARY INFORMATION:

Department of Health and Human Services

Substance Abuse and Mental Health Services Administration

Knowledge Dissemination Conference Grants Program Announcement

(Short Title: SAMHSA Conference Grants)

[Announcement No. PA 05-001]

[Modification: reissuance of PA 03-002]

Catalogue of Federal Domestic Assistance (CFDA) No.: 93.243

Authority: Sections 520A (Priority Mental Health Needs of Regional and National Significance), 516 (Priority Substance Abuse Prevention Needs of Regional and National Significance) and 509 (Priority Substance Abuse Treatment Needs of Regional and National Significance) of the Public Health Service Act, as amended, and subject to the availability of funds

Key Dates

Application Deadline | Applications are due on the recurring dates of January 10 and September 10 each year.
Intergovernmental Review | (E.O. 12372) Letters from State Single Point of Contact (SPOC) are due no later than 60 days after application deadline.

*This program is being announced prior to the full annual appropriation for fiscal year (FY) 2005 for the Substance Abuse and Mental Health Services Administration's (SAMHSA) programs. Applications are invited based on the assumption that sufficient funds will be appropriated for FY 2005 to permit funding of a reasonable number of applications being hereby solicited. All applicants are reminded, however, that we cannot guarantee sufficient funds will be appropriated to permit SAMHSA to fund any applications. Questions regarding the status of the appropriation of funds should be directed to the Grants Management Officer listed under Contacts for Additional Information in this announcement.

Table of Contents

I. Funding Opportunity Description

1. Introduction

2. Expectations

3. Required Activities

4. Data and Performance Measurement

5. Evaluation

II. Award Information

1. Award Amount

2. Funding Mechanism

III. Eligibility Information

1. Eligible Applicants

2. Cost-Sharing

3. Other

IV. Application and Submission Information

1. Address to Request Application Package

2. Content and Form of Application Submission

3. Submission Dates and Times

4. Intergovernmental Review (E.O. 12372) Requirements

5. Funding Restrictions

6. Other Submission Requirements

V. Application Review Information

1. Evaluation Criteria

2. Review and Selection Process

VI. Award Administration Information

1. Award Notices

2. Administrative and National Policy Requirements

3. Reporting Requirements

VII. Agency Contacts

Appendix A: CSAT's GPRA Requirements and Meeting Survey (Baseline and Follow-up) Forms for Conference Grants

Appendix B: CMHS Customer Satisfaction Survey

Appendix C: Checklist for Formatting Requirements and Screenout Criteria for SAMHSA Grant Applications

Appendix D: Glossary

I. Funding Opportunity Description

1. Introduction

The Substance Abuse and Mental Health Services Administration (SAMHSA) Center for Mental Health Services (CMHS), Center for Substance Abuse Prevention (CSAP), and Center for Substance Abuse Treatment (CSAT) are accepting applications for SAMHSA Knowledge Dissemination Conference Grants (also referred to as SAMHSA Conference Grants). The purpose of the Conference Grant program is to disseminate knowledge about practices within the mental health services and substance abuse prevention and treatment fields and to integrate that knowledge into real-world practice as effectively and efficiently as possible. SAMHSA's conference grants are authorized by sections 520A, 516, and 509 of the PHS Act.

SAMHSA Centers (CMHS, CSAP, and CSAT) will provide support for up to 75 percent of the total direct costs of planned meetings and conferences. Grant awards range from $25,000 to a maximum of $50,000 for a 12-month project period.

2. Expectations

As the Federal agency charged with improving the quality and availability of substance abuse and mental health prevention, treatment, and rehabilitative services, SAMHSA has developed programs to put research findings into practice by bringing new science-based knowledge to community-based prevention, identification, and treatment of mental and addictive disorders. Conferences provide an expeditious and efficient method to disseminate knowledge to a wide audience and promote the transfer of knowledge into practice.

Under this announcement, applications are invited for support of conferences related to substance abuse (including abuse of alcohol, tobacco, and illicit drugs) and mental illness prevention, early intervention, and treatment innovations and service delivery.

A conference is a regional workshop or any other organized and formal meeting lasting 1 or more days where persons assemble to exchange information about the science and practice of substance abuse and/or mental health identification, treatment, and prevention. Conferences must be open to a broad constituency of interests and skills that include providers, practitioners, researchers, advocates, consumers, family members, and the general public.

Conferences that focus on a single audience, such as training sessions for volunteers or practitioners, or seminars for researchers, do not fit these requirements.

SAMHSA, through its Centers, supports conferences that address the following programmatic priorities and principles:

Programmatic Priorities:

1. Co-occurring disorders.

2. Substance abuse treatment capacity.

3. Seclusion and restraint.

4. Strategic prevention framework.

5. Children and families.

6. Mental health system transformation.

7. Disaster readiness and response.

8. Homelessness.

9. Aging.

10. HIV/AIDS and hepatitis.

11. Criminal justice.

Priority Principles:

1. Science to services/evidence-based practices.

2. Data for performance measurements and management.

3. Collaboration with public and private partners.

4. Recovery/reducing stigma and barriers to services.

5. Cultural competency/eliminating disparities.

6. Community and faith-based approaches.

7. Trauma and violence (e.g., physical and sexual abuse).

8. Financing strategies and cost-effectiveness.

9. Rural and other specific settings.

10. Workforce development.

Each of the SAMHSA Centers maintains responsibility for and makes funding decisions regarding conferences in its respective areas of expertise:

2.1 Center for Mental Health Services

The Center for Mental Health Services (CMHS) plays a pivotal role as an agent of change in the field of mental health, working in partnership with other Federal agencies, State and local mental health authorities, service providers, consumers of services, and their families. It is guiding a service system in transition, stimulating the capacity of its partners to improve and enhance mental health treatment, illness prevention, and support services, placing them within reach of all Americans in need. To this end, CMHS develops new strategies and highlights effective practices using an array of the latest research-based treatments and support services. The Center's national programs promote the integration of relevant, culturally appropriate community services, opening the door to a comprehensive service system for those who need continuing intervention. Such integrated services are especially important for children and adolescents with serious emotional disturbances and adults with serious mental illness, including those involved in the criminal justice system, those with co-occurring substance abuse disorders, and those who are homeless.

In FY 2005, CMHS will reserve $200,000 in funds to support conferences related to the prevention of mental and behavioral disorders. Applications received September 10, 2004 and January 10, 2005 will be considered for funding during the FY 2005 fiscal year. Examples of prevention related topics include:

• Early intervention for people with mental and behavioral disorders;

• Suicide prevention;

• Childhood trauma;

• Youth violence prevention;

• Women's issues;

• Rural mental health;

• Racial and ethnic disparities; and

• Emergency mental health services.

Conference goals related to prevention topics may include any of the following:

• The exchange and dissemination knowledge of evidence-based programs/best practices guidelines;

• Development of strategies for effective partnerships and collaborations at the local, regional, national, and international levels;

• Development of a competent workforce; and

• Policy development and the synthesis of innovative ideas and concepts into effective system designs.

2.2 Center for Substance Abuse Prevention

The mission of the Center for Substance Abuse Prevention (CSAP) is to bring effective substance abuse prevention to every community. That mission will be accomplished through the recently developed Strategic Prevention Framework, which incorporates SAMHSA's goals of Accountability, Capacity, and Effectiveness. The objectives of the Strategic Prevention Framework are to increase substance abuse prevention programming throughout the United States; to support the implementation of effective substance abuse prevention programs in the States and communities; and to promote the use of performance measures and evaluation tools by substance abuse prevention providers. Through the Strategic Prevention Framework, CSAP builds capacity within the States and the prevention field to promote resiliency and decrease risk factors in individuals, families and communities.

The Strategic Prevention Framework incorporates a five step community development model: (1) Organize the community to profile needs, including community readiness; (2) mobilize the community and build the capacity to address needs and plans for sustainability; (3) develop the prevention action (evidence-based activities, programs, strategies, and policies); (4) implement the prevention plan; and (5) conduct ongoing evaluation for quality improvement and outcomes.

Within this conceptual framework, CSAP provides leadership and support to the Nation's substance abuse prevention activities by bringing knowledge on effective substance abuse prevention to every community, and promoting the implementation of evidence-based substance abuse prevention practices to achieve the goals of reducing risk factors and enhancing protective factors. CSAP's efforts help to reduce the number of people that will ultimately need treatment for addiction by deterring individuals from ever using drugs, by delaying the age of onset, and intervening to keep them from increasing their drug use. Through these efforts, CSAP contributes to the overall national effort, as articulated in one of the three priorities of the National Drug Control Strategy, to reduce the current use of illegal drugs among those aged 12 years or older by 10 percent in 2 years and by 25 percent in 5 years. For this reason, CSAP is interested in disseminating knowledge about the applicability of evidence-based programs and practices to the substance abuse prevention field.

2.3 Center for Substance Abuse Treatment

The Center for Substance Abuse Treatment (CSAT) was created by Congress to expand the availability of effective treatment and recovery services for alcohol and drug problems. This is reflected in CSAT's mission of improving the health of the nation by bringing effective alcohol and drug treatment to every community. CSAT works cooperatively across the private and public treatment spectrum to identify, develop, and support policies, approaches, and programs that enhance and expand treatment. CSAT's initiatives are based on services and the consensus of experts in the addiction treatment field that, for most individuals, treatment and recovery work best in the context of a community-based coordinated system of comprehensive services designed to assure a continuum of support for recovery. CSAT supports the Nation's treatment infrastructure in providing an array of gender-specific and culturally appropriate services, evaluating the effectiveness of treatment and the delivery of services, and continually utilizing evaluation results to reformulate treatment, recovery, and service delivery approaches.

In addition to SAMHSA priorities listed above, CSAT is particularly interested in conferences that focus on substance abuse treatment in relationship to: pharmacologic treatment of opioid addiction; emerging issues (e.g., OxyContin, methamphetamine, buprenorphine, etc.); workforce development; stigma reduction; employment of persons in recovery; financing; confidentiality/privacy; and mandated treatment.

2.4 Cultural Competence

Providing quality substance abuse prevention, addiction treatment, and mental health services to people from different cultures is the cornerstone of SAMHSA's efforts to promote health among diverse populations. SAMHSA believes these services are most effective when provided with consideration for the culture, values, and traditions of the individuals and communities being served, taking into account issues of race/ethnicity, gender, age, language, sexual orientation, disability, and literacy.

For these reasons, SAMHSA supports and upholds the concepts of cultural competence in the development and day-to-day implementation of all its programs. SAMHSA defines cultural competence as a set of behaviors, skills, attitudes, and policies that promote awareness, acceptance, and respect for differences among people. Cultural competence extends to continuing efforts, by both programs and individuals, to enhance their knowledge of other cultures, and to develop flexible models of service delivery that can be easily adapted to meet the evolving/emerging needs of diverse populations.

Complete SAMHSA guidelines for cultural competence are available on SAMHSA's Web site (http://www.samhsa.gov, click on “Grant Opportunities” and choose the option for “Useful Information for Grant Applicants”). For more information on cultural competence, see (1) The Surgeon General's Supplement, Mental Health: Culture, Race, and Ethnicity (DHHS, 2001); (2) Cultural Competence Standards in Managed Care Mental Health Services: Four Underserved/Under-represented Racial/Ethnic Groups, 2000; (3) Cultural Issues in Substance Abuse Treatment (BKD# 323). To obtain copies of the first and second articles, call the National Mental Health Information Center at (800) 789-2647, or visit the CMHS Web site at http://www.mentalhealth.org. To obtain a copy of the third article, call the National Clearinghouse for Alcohol and Drug Information (NCADI) at (800) 729-6686.

2.5 Family and Consumer Involvement

SAMHSA believes that families and consumers contribute significantly to successful outcomes and must be appropriately involved in the conceptualization, planning, implementation, and evaluation of SAMHSA projects. Therefore, SAMHSA is committed to funding projects that are culturally competent, gender sensitive, age appropriate, and customer driven (family and consumer) in their approaches.

3. Required Activities

As a condition of accepting a SAMHSA Conference Grant award and in conducting activities to achieve the purpose of this program, the recipient will be responsible for and must agree to the following requirements.

1. Use SAMHSA's name only in factual publicity for the conference. SAMHSA involvement in the conference does not necessarily indicate support for the organizer's general policies, activities, products, or the content of speakers' presentations.

2. Hold the conference in facilities that are fully accessible to the public as required by the Americans with Disabilities Act Accessibility Guidelines (ADAAG). Accessibility under ADAAG addresses accommodations for persons with sensory impairments as well as persons with physical disabilities or mobility limitations.

3. Manage all activities related to program content (e.g., objectives, topics, attendees, session design, workshops, special exhibits, speakers' fees, agenda composition, and printing). These items may be developed in concert with assigned SAMHSA project personnel. SAMHSA and/or the pertinent Center shall have the opportunity to speak, exhibit, and/or distribute informational material at the conference, if appropriate. No registration fees will be charged to SAMHSA/Center staff.

4. Provide draft copies of the agenda and proposed ancillary activities to SAMHSA for approval. All but 50 percent of the total funds awarded for the proposed conference will be initially restricted pending approval by SAMHSA of a full, final agenda. The remaining 50 percent of funds will be released by letter to the grantee upon the approval of the final agenda. Because conference support by SAMHSA creates the appearance of SAMHSA co-sponsorship, there will be active participation by SAMHSA in the development and approval of those portions of the agenda supported by SAMHSA funds. SAMHSA funds will not be expended for non-approved portions of conferences. In addition, SAMHSA will reserve the right to approve or reject the content of the full agenda, press events, promotional materials (including press releases), speaker selection and site selection. SAMHSA reserves the right to terminate co-sponsorship if it does not concur with the final agenda.

5. Determine and manage all promotional activities (e.g., title, logo, announcements, mailers, press, etc.). SAMHSA must review and approve any materials with reference to SAMHSA involvement or support.

6. Manage all registration processes with participants, invitees, and registrants (e.g., travel, reservations, correspondence, conference materials and handouts, badges, registration procedures, etc.).

7. Plan, negotiate, and manage conference site arrangements, including all audio-visual needs.

8. Submit interim and final reports describing the conference, attendance, presentations, speakers, expenditures, and conference evaluation.

9. Submit three copies of any publications resulting from the conference to the Grants Policy Officer (GPO) within 30 days of the date of publication.

4. Data and Performance Measurement

The Government Performance and Results Act of 1993 (Pub. L. 103-62, or “GPRA”) requires all Federal agencies to:

• Develop strategic plans that specify what they will accomplish over a 3 to 5-year period;

• Set performance targets annually related to their strategic plan; and

• Report annually on the degree to which the previous year's targets were met.

The law further requires agencies to link their performance to their budgets. Agencies are expected to evaluate their programs regularly and to use results of these evaluations to explain their successes and failures.

To meet these requirements, SAMHSA must collect performance data (i.e., “GPRA data”) from grantees. You are required to report these GPRA data to SAMHSA on a timely basis so that performance results are available to support budgetary decisions. In your application, you must demonstrate your ability to collect and report on these measures.

GPRA reporting requirements for SAMHSA's Conference Grants program are as follows:

• Measures for CSAP awardees are expected to include data such as number of attendees, satisfaction with the conference and achievement of conference goals. Applications are expected to include description of the measurements (items) to gather the data indicated above. Measures requirements will be described more fully in the terms and conditions applied to grants awarded by CSAP.

• Measures and instructions for CSAT awardees are specified in Appendix A of this program announcement.

• Measures and instructions for CMHS awardees are specified in Appendix B of this program announcement.

Before grant award, a final agreement regarding data collection will be reached. The terms and conditions of the grant award will specify the data to be submitted and the schedule for submission. Grantees will be required to adhere to these terms and conditions of award.

5. Evaluation

Grantees must evaluate their projects, and applicants are required to describe their evaluation plans in their applications.

II. Award Information

1. Award Amount

In Fiscal Year (FY) 2005, SAMHSA's three Centers expect to make a total of $1,025,000 available 22-41 conference grants. SAMHSA/CMHS expects to make available $450,000 for 9-18 awards, with $200,000 reserved to support conferences related to the prevention of mental and behavioral disorders. SAMHSA/CSAP expects to make available $75,000 for up to 3 awards. SAMHSA/CSAT expects to make available $500,000 for 10-20 awards. Each of the three Centers will make available a minimum of $75,000 in FY 2006 and beyond, assuming funding is available.

All awards will be for a maximum project period of 12 months.

SAMHSA Centers (CMHS, CSAP, and CSAT) will provide support for up to 75 percent of the total direct costs of planned conferences. The maximum grant award is $50,000. Indirect costs are not allowed under this program. It is expected that 20-30 awards will be made each year under this announcement. Actual awards will depend on the availability of funds.

2. Funding Mechanism

Awards will be made as grants.

III. Eligibility Information

1. Eligible Applicants

Eligible applicants are domestic public and private nonprofit entities. For example, State, local or tribal governments; public or private universities and colleges; professional associations, voluntary organizations, self-help groups, consumer and provider services-oriented constituency groups; community- and faith-based organizations; and tribal organizations may apply. Individuals are not eligible to receive grant support for a conference. The statutory authority for this program precludes grants to for-profit organizations.

Support for only one conference from one SAMHSA Center (CMHS, CSAP, CSAT) may be requested in any single application. Only one application per receipt date may be submitted.

2. Cost-Sharing

Cost sharing is required. SAMHSA will provide support for up to 75% of the total direct cost of the conference.

3. Other

Applications must comply with the following requirements, or they will be screened out and will not be reviewed: Use of the PHS 5161-1 application; application submission requirements in Section IV-3 of this document; and formatting requirements provided in Section IV-2.3 of this document.

IV. Application and Submission Information

(To ensure that you have met all submission requirements, a checklist is provided for your use in Appendix C of this document.)

1. Address to Request Application Package

You may request a complete application kit by calling one of SAMHSA's national clearinghouses:

• For substance abuse prevention or treatment grants, call the National Clearinghouse for Alcohol and Drug Information (NCADI) at 1-800-729-6686.

• For mental health grants, call the National Mental Health Information Center at 1-800-789-CMHS (2647).

You also may download the required documents from the SAMHSA Web site at http://www.samhsa.gov. Click on “grant opportunities.”

Additional materials available on this Web site include:

• A technical assistance manual for potential applicants;

• Standard terms and conditions for SAMHSA grants;

• Guidelines and policies that relate to SAMHSA grants (e.g., guidelines on cultural competence, consumer and family participation, and evaluation); and

• Enhanced instructions for completing the PHS 5161-1 application.

2. Content Form of Application Submission

2.1 Required Documents

SAMHSA application kits include the following documents:

• PHS 5161-1 (revised July 2000)—Includes the face page, budget forms, assurances, certification, and checklist. You must use the PHS 5161-1. Applications that are not submitted on the PHS 5161-1 will be screened out and will not be reviewed.

• Program Announcement (PA)—Provides specific information about the availability of funds along with instructions for completing the grant application. This document is the PA. The PA is available on the SAMHSA Web site (http://www.samhsa.gov). A synopsis of the PA is available on the Federal grants Web site (http://www.grants.gov) and will be published in the Federal Register.

You must use both documents in completing your application.

2.2 Required Application Components

To ensure equitable treatment of all applications, applications must be complete. In order for your application to be complete, it must include the required ten application components (Face Page, Abstract, Table of Contents, Budget Form, Project Narrative and Supporting Documentation, Appendices, Assurances, Certifications, Disclosure of Lobbying Activities, and Checklist).

• Face Page—Use Standard Form (SF) 424, which is part of the PHS 5161-1.

Note: Beginning October 1, 2003, applicants will need to provide a Dun and Bradstreet (DUNS) number to apply for a grant or cooperative agreement from the Federal Government. SAMHSA applicants will be required to provide their DUNS number on the face page of the application. Obtaining a DUNS number is easy and there is no charge. To obtain a DUNS number, access the Dun and Bradstreet Web site at http://www.dunandbradstreet.com or call 1-866-705-5711. To expedite the process, let Dun and Bradstreet know that you are a public/private nonprofit organization getting ready to submit a Federal grant application.

• Abstract—Your total abstract should not be longer than 35 lines. In the first five lines or less of your abstract, write a summary of your project (including the date and location of the proposed conference) that can be used, if your project is funded, in publications, reporting to Congress, or press releases.

• Table of Contents—Include page numbers for each of the major sections of your application and for each appendix.

• Budget Form—Use SF 424A, which is part of the 5161-1. Fill out Sections B, C, and E of the SF 424A.

• Project Narrative and Supporting Documentation—The Project Narrative describes your project. It consists of Sections A through D. These sections in total may not be longer than 25 pages. More detailed instructions for completing each section of the Project Narrative are provided in “Section V—Application Review Information” of this document.

The Supporting Documentation provides additional information necessary for the review of your application. This supporting documentation should be provided immediately following your Project Narrative in Sections E through H. There are no page limits for these sections, except for Section F, Biographical Sketches/Job Descriptions.

Section E—Budget Justification, Existing Resources, Other Support.

You must provide a line item budget and specific justification for the project's direct costs. (Note that for this grant program there will be no future years; the project duration is 12 months only.) For contractual costs, provide a similar yearly breakdown and justification for ALL costs.

Specify all resources needed to accomplish the project that the project will have access to, either through the grant or, as appropriate, through other resources.

(1) Personnel: Itemize and prorate salary for professional and nonprofessional staff for the amount of time spent on the project.

(2) Fringe Benefits: Itemization may include only funds in proportion to the amount of time or effort employees devote to the project, provided that such costs are incurred under formally established and consistently applied policies of the organization.

(3) Equipment: Grant funds may be used only for rental of necessary equipment; funds may not be used for the purchase of equipment. Itemize rental costs, projection, public address systems, exhibits, phones, etc.

(4) Supplies: Grant funds may be used for the purchase of supplies necessary for the conference, provided the supplies are received and used during the project period. Itemize stationery, mailing costs, etc.

(5) Travel: Funds may be used for the travel of staff, speakers, participants, and attendees if identified in the application and approved at the time of award. Proposed per diem or subsistence allowances must be reasonable and will be limited to the days of attendance at the conference plus the actual travel time required to reach the conference location by the most direct route available. Where meals and/or lodgings are furnished without charge or at a nominal cost (e.g., as part of the registration fee), the proposed per diem or subsistence allowance will be reduced to take this into consideration. Transportation costs for attendees and participants at the conference may not exceed economy class airfares. Grant funds may not be used to pay per diem or expenses other than local mileage for local participants in the conference.

(6) Meals: Meals are allowable if justified as an integral part of the program (e.g., working lunch when speaker is present). Breaks, snacks, breakfast, dessert receptions, etc., are not allowable.

(7) Registration Fees: Registration fees may be paid from grant funds, provided such fees cover only those costs otherwise properly chargeable to the grant.

(8) Publication Costs: Grant funds may be used to cover the costs of publishing the conference product (proceedings, manual, monograph, report).

(9) Consultant Services: Costs for consultant fees are allowed, including travel and supporting costs (per diem, or where applicable, subsistence).

(10) Speakers' Fees: Costs for speakers' fees for services rendered are allowed. However, honoraria (non-speaker) or other payments given for the purpose of conferring distinction, or to symbolize respect or esteem, may not be paid from grant funds.

(11) Conference Services: Grant funds may be used for recordings of proceedings, editorial services, simultaneous translation, etc., and subsequent transcriptions.

(12) All Other Expenses: Itemize costs for printing programs, notices, badges, signs, etc., and rental of conference space.

(13) Other Support: “Other Support” refers to all current or pending funds that will be used to plan for, conduct, and evaluate the conference, related to this application. Other support can include registration fees, contributions from any organizations or persons, and in-kind services. Applicant organizations are reminded of the necessity to provide full and reliable information regarding “other support,” i.e., all Federal and non-Federal active or pending support. For your organization and key organizations that are collaborating with you in this proposed project, list all currently active support and any applications/proposals pending review or funding that relate to the project. If there are none, state “none.” For all active and pending support listed, also provide the following information:

—Source of support (including identifying number and title).

—Dates of entire project period.

—Annual direct costs supported/requested.

—Brief description of the project.

—If the project overlaps, duplicates, or is being supplemented by the present application, delineate and justify the nature and extent of any programmatic and/or budgetary overlaps.

Section F—Biographical Sketches and Job Descriptions.

—Include a biographical sketch for the Project Director and other key positions. Each sketch should be 2 pages or less. If the person has not been hired, include a letter of commitment from the individual with a current biographical sketch.

—Include job descriptions for key personnel. Job descriptions should be no longer than 1 page each.

—Sample sketches and job descriptions are listed on page 22, Item 6 in the Program Narrative section of the PHS 5161-1.

Section G—Literature Citations. This section must contain complete citations, including titles and all authors, for any literature you cite in your application.

Section H—Confidentiality and SAMHSA Participant Protection/Human Subjects. Instructions for completing Section H of your application are provided below in Section IV-2.4 of this document.

• Appendices 1 through 3—Do not use more than 30 pages (excluding data collection instruments and interview protocols) for the appendices. Do not use appendices to extend or replace any of the sections of the Project Narrative. Reviewers will not consider them if you do.

—Appendix 1: Letters of Collaboration, Support, and/or Agreement to Participate in the Conference.

—Appendix 2: Data Collection Instruments/Interview Protocols.

—Appendix 3: Sample Consent Forms.

• Assurances—Non-Constructions programs. Use Standard Form 424B found in PHS 5161-1.

• Certifications—Use the “Certifications” forms found in PHS 5161-1.

• Disclosure of Lobbying Activities—Use Standard Form LLL found in the PHS 5161-1. Federal law prohibits the use of appropriated funds for publicity or propaganda purposes, or for the preparation, distribution, or use of the information designed to support or defeat legislation pending before the Congress or State legislatures. This includes “grass roots” lobbying, which consists of appeals to members of the public suggesting that they contact their elected representatives to indicate their support for or opposition to pending legislation or to urge those representatives to vote in a particular way.

• Checklist—Use the Checklist found in PHS 5161-1. The Checklist ensures that you have obtained the proper signatures, assurances and certifications and is the last page of your application.

2.3 Application Formatting Requirements

Applicants also must comply with the following basic application requirements. Applications that do not comply with these requirements will be screened out and will not be reviewed.

• Information provided must be sufficient for review.

• Text must be legible.

• Type size in the Project Narrative cannot exceed an average of 15 characters per inch, as measured on the physical page. (Type size in charts, tables, graphs, and footnotes will not be considered in determining compliance.)

• Text in the Project Narrative cannot exceed 6 lines per vertical inch.

• Paper must be white paper and 8.5 inches by 11.0 inches in size.

• To ensure equity among applications, the amount of space allowed for the Project Narrative cannot be exceeded.

• Applications would meet this requirement by using all margins (left, right, top, bottom) of at least one inch each, and adhering to the 25-page limit for the Project Narrative.

• Should an application not conform to these margin or page limits, SAMHSA will use the following method to determine compliance: The total area of the Project Narrative (excluding margins, but including charts, tables, graphs and footnotes) cannot exceed 58.5 square inches multiplied by 25. This number represents the full page less margins, multiplied by the total number of allowed pages.

• Space will be measured on the physical page. Space left blank within the Project Narrative (excluding margins) is considered part of the Project Narrative, in determining compliance.

• The 30-page limit for Appendices 1 through 3 cannot be exceeded.

To facilitate review of your application, follow these additional guidelines. Failure to adhere to the following guidelines will not, in itself, result in your application being screened out and returned without review. However, following these guidelines will help reviewers to consider your application.

• Pages should be typed single-spaced with one column per page.

• Pages should not have printing on both sides.

• Please use black ink and number pages consecutively from beginning to end so that information can be located easily during review of the application. The cover page should be page 1, the abstract page should be page 2, and the table of contents page should be page 3. Appendices should be labeled and separated from the Project Narrative and budget section, and the pages should be numbered to continue the sequence.

• Send the original application and two copies to the mailing address in Section IV-6.1 of this document. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

2.4 SAMHSA Confidentiality and Participant Protection Requirements and Protection of Human Subjects Regulations

You must describe your procedures relating to Confidentiality, Participant Protection and the Protection of Human Subjects Regulations in Section H of your application, using the guidelines provided below. Problems with confidentiality, participant protection, and protection of human subjects identified during peer review of your application may result in the delay of funding.

Confidentiality and Participant Protection

All applicants must address each of the following elements relating to confidentiality and participant protection. You must describe how you will address these requirements or indicate why they do not apply.

In completing this section of your application, limit the discussion of participant protection to the conference itself and its evaluation process.

Participation in the conferences may expose some presenters and attendees to potential risks that come from disclosing personal information or raising uncomfortable issues while discussing mental health and/or substance abuse diagnosis, treatment, or prevention issues. Consumers of these services are particularly vulnerable to the loss of privacy regarding their consumer status.

Confidentiality and Participant Protection

All applicants must address each of the following elements relating to confidentiality and participant protection. You must describe how you will address these requirements.

(1) Protect Clients and Staff from Potential Risks:

• Identify and describe any foreseeable physical, medical, psychological, social, and legal risks or potential adverse effects as a result of the project itself or any data collection activity.

• Describe the procedures you will follow to minimize or protect participants against potential risks, including risks to confidentiality.

• Identify plans to provide guidance and assistance in the event there are adverse effects to participants.

• Where appropriate, describe alternative treatments and procedures that may be beneficial to the participants. If you choose not to use these other beneficial treatments, provide the reasons for not using them.

(2) Fair Selection of Participants:

• Describe the target population(s) for the proposed project. Include age, gender, and racial/ethnic background and note if the population includes homeless youth, foster children, children of substance abusers, pregnant women, or other targeted groups.

• Explain the reasons for including groups of pregnant women, children, people with mental disabilities, people in institutions, prisoners, and individuals who are likely to be particularly vulnerable to HIV/AIDS.

• Explain the reasons for including or excluding participants.

• Explain how you will recruit and select participants. Identify who will select participants.

(3) Absence of Coercion:

• Explain if participation in the project is voluntary or required. Identify possible reasons why participation is required, for example, court orders requiring people to participate in a program.

• If you plan to compensate participants, state how participants will be awarded incentives (e.g., money, gifts, etc.).

• State how volunteer participants will be told that they may receive services intervention even if they do not participate in or complete the data collection component of the project.

(4) Data Collection:

• Identify from whom you will collect data (e.g., from participants themselves, family members, teachers, others). Describe the data collection procedures and specify the sources for obtaining data (e.g., school records, interviews, psychological assessments, questionnaires, observation, or other sources). Where data are to be collected through observational techniques, questionnaires, interviews, or other direct means, describe the data collection setting.

• Identify what type of specimens (e.g., urine, blood) will be used, if any. State if the material will be used just for evaluation or if other use(s) will be made. Also, if needed, describe how the material will be monitored to ensure the safety of participants.

• Provide in Appendix 2, “Data Collection Instruments/Interview Protocols,” copies of all available data collection instruments and interview protocols that you plan to use.

(5) Privacy and Confidentiality:

• Explain how you will ensure privacy and confidentiality. Include who will collect data and how it will be collected.

• Describe:

—How you will use data collection instruments.

—Where data will be stored.

—Who will or will not have access to information.

—How the identity of participants will be kept private, for example, through the use of a coding system on data records, limiting access to records, or storing identifiers separately from data.

Note: If applicable, grantees must agree to maintain the confidentiality of alcohol and drug abuse client records according to the provisions of Title 42 of the Code of Federal Regulations, Part 2.

(6) Adequate Consent Procedures:

• List what information will be given to people who participate in the project. Include the type and purpose of their participation. Identify the data that will be collected, how the data will be used and how you will keep the data private.

• State:

—Whether or not their participation is voluntary.

—Their right to leave the project at any time without problems.

—Possible risks from participation in the project.

—Plans to protect clients from these risks.

—Explain how you will get consent for youth, the elderly, people with limited reading skills, and people who do not use English as their first language.

Note: If the project poses potential physical, medical, psychological, legal, social or other risks, you must obtain written informed consent.

• Indicate if you will obtain informed consent from participants or assent from minors along with consent from their parents or legal guardians. Describe how the consent will be documented. For example: Will you read the consent forms? Will you ask prospective participants questions to be sure they understand the forms? Will you give them copies of what they sign?

• Include, as appropriate, sample consent forms that provide for: (1) Informed consent for participation in service intervention; (2) informed consent for participation in the data collection component of the project; and (3) informed consent for the exchange (releasing or requesting) of confidential information. The sample forms must be included in Appendix 3, “Sample Consent Forms”, of your application. If needed, give English translations.

Note: Never imply that the participant waives or appears to waive any legal rights, may not end involvement with the project, or releases your project or its agents from liability for negligence.

• Describe if separate consents will be obtained for different stages or parts of the project. For example, will they be needed for both participant protection in treatment intervention and for the collection and use of data?

• Additionally, if other consents (e.g., consents to release information to others or gather information from others) will be used in your project, provide a description of the consents. Will individuals who do not consent to having individually identifiable data collected for evaluation purposes be allowed to participate in the project?

(7) Risk/Benefit Discussion:

• Discuss why the risks are reasonable compared to expected benefits and importance of the knowledge from the project.

Protection of Human Subjects Regulations

Depending on the evaluation design you propose in your application, you may have to comply with the Protection of Human Subjects Regulations (45 CFR 46).

Applicants whose projects must comply with the Protection of Human Subjects Regulations must describe the process for obtaining Institutional Review Board (IRB) approval fully in their applications. While IRB approval is not required at the time of grant award, these applicants will be required, as a condition of award, to provide the documentation that an Assurance of Compliance is on file with the Office for Human Research Protections (OHRP) and that IRB approval has been received prior to enrolling any clients in the proposed project.

Additional information about Protection of Human Subjects Regulations can be obtained on the Web at http://ohrp.osophs.dhhs.gov. You may also contact OHRP by e-mail (ohrp@osophs.dhhs.gov) or by phone (301-496-7005).

3. Submission Dates and Times

SAMHSA anticipates that there will be two cycles of awards each year. Applications must be received by January 10 for the first review cycle and September 10 for the second review cycle. Applications are due by close of business on January 10 and September 10. If the receipt date falls on the weekend, it will be extended to the following Monday. Your application must be received by the application deadline. Applications sent through postal mail and received after this date must have a proof-of-mailing date from the carrier dated at least 1 week prior to the due date. Private metered postmarks are not acceptable as proof of timely mailing.

Applicants are urged to apply for funding 1 year in advance of the planned conference.

You will be notified by postal mail that your application has been received.

Applications not received by the application deadline or not postmarked by a week prior to the application deadline will be screened out and will not be reviewed.

4. Intergovernmental Review (E.O. 12372) Requirements

Executive Order 12372, as implemented through Department of Health and Human Services (DHHS) regulation at 45 CFR part 100, sets up a system for State and local review of applications for Federal financial assistance. A current listing of State Single Points of Contact (SPOCs) is included in the application kit and can be downloaded from the Office of Management and Budget (OMB) Web site at http://www.whitehouse.gov/omb/grants/spoc.html.

• Check the list to determine whether your State participates in this program. You do not need to do this if you are a federally recognized Indian tribal government.

• If your State participates, contact your SPOC as early as possible to alert him/her to the prospective application(s) and to receive any necessary instructions on the State's review process.

• For proposed projects serving more than one State, you are advised to contact the SPOC of each affiliated State.

The SPOC should send any State review process recommendations to the following address within 60 days of the application deadline: Substance Abuse and Mental Health Services Administration, Office of Program Services, Review Branch, 5600 Fishers Lane, Room 17-89, Rockville, MD 20857, ATTN: SPOC—Funding Announcement No. PA 05-001.

5. Funding Limitations/Restrictions

Cost principles describing allowable and unallowable expenditures for Federal grantees, including SAMHSA grantees, are provided in the following documents:

• Institutions of Higher Education: OMB Circular A-21.

• State and Local Governments: OMB Circular A-87.

• Nonprofit Organizations: OMB Circular A-122.

• Appendix E Hospitals: 45 CFR part 74.

SAMHSA Centers (CMHS, CSAP, and CSAT) will provide support for up to 75 percent of the total direct costs of planned conferences.

The maximum grant award is $50,000.

6. Other Submission Requirements

6.1 Where To Send Applications

Send applications to the following address: Substance Abuse and Mental Health Services Administration, Office of Program Services, Review Branch, 5600 Fishers Lane, Room 17-89, Rockville, MD 20857.

Be sure to include “SAMHSA Conference Grants—PA 05-001” and the acronym for the Center (either CMHS, CSAP, or CSAT) to which you are applying in item number 10 on the face page of the application. If you require a phone number for delivery, you may use (301) 443-4266.

6.2 How To Send Applications

Mail an original application and 2 copies (including appendices) to the mailing address provided above. The original and copies must not be bound. Do not use staples, paper clips, or fasteners. Nothing should be attached, stapled, folded, or pasted.

You must use a recognized commercial or governmental carrier. Hand carried applications will not be accepted. Faxed or e-mailed applications will not be accepted.

V. Application Review Information

1. Evaluation Criteria

Your application will be reviewed and scored against the requirements listed below for developing the Project Narrative (Sections A-D). These sections describe what you intend to do with your project.

• In developing the Project Narrative section of your application, use these instructions, which have been tailored to this program. These are to be used instead of the “Program Narrative” instructions found in the PHS 5161-1.

• Be sure to provide complete references for any literature cited in your Project Narrative. These references should be provided in Section G of the Supporting Documentation.

• You must use the four sections/headings listed below in developing your Project Narrative. Be sure to place the required information in the correct section, or it will not be considered. Your application will be scored according to how well you address the requirements for each section.

• Reviewers will be looking for evidence of cultural competence in each section of the Project Narrative. Points will be assigned based on how well you address the cultural competence aspects of the evaluation criteria. SAMHSA's guidelines for cultural competence can be found on the SAMHSA Web site at http://www.samhsa.gov. Click on “Grant Opportunities.”

• The Supporting Documentation you provide in Sections E-H and Appendices 1-3 will be considered by reviewers in assessing your response, along with the material in the Project Narrative.

• The number of points after each heading below is the maximum number of points a review committee may assign to that section of your Project Narrative. Bullet statements in each section do not have points assigned to them. They are provided to invite the attention of applicants and reviewers to important areas within each section.

Section A: Potential Significance of the Proposed Project (35 points)

• Present a brief literature review on the topic area and describe how your conference represents knowledge in the field(s).

• Describe the value of the conference to advance the field of substance abuse and/or mental health prevention, treatment, and rehabilitative services, particularly in reference to culturally and racially diverse populations.

• Describe the relevance of the proposed project to the SAMHSA Programmatic Priorities and Priority Principles found in the Expectations section of this announcement.

Section B: Merit and Appropriateness of the Project Plan (30 points)

• Identify and justify overall goals, objectives, and approach of the conference.

• Discuss the feasibility of the conference agenda.

• Describe the collaboration in the planning, implementation, and evaluation of the conference among all of the following constituencies: consumers, advocates, researchers, and providers. Attach letters of support and/or agreement to participate in the conference in Appendix 1. Identify any cash or in-kind contributions that will be made to this project.

• Explain how your conference will address, develop, and/or improve the cultural awareness and/or competence of attendees.

• List plans for speakers, presenters, and participants. Attach letters of collaboration, support, and/or agreement to participate in the conference in Appendix 1.

• Describe plans for development and dissemination of conference product(s) (e.g., publications, reports).

Section C: Management Plan, Staffing, Project Organization and Resources (25 points)

• List any previous conferences you have conducted or coordinated, include dates, topics, attendance, and products. Also indicate if you have not conducted or coordinated conferences before.

• Describe the administrative and organizational structure that will facilitate goals, objectives, and approach of the conference.

• Briefly describe capability/experience of the proposed conference director and other key personnel. Attach their resumes in Section F Biographical Sketches and Job Descriptions.

• Describe how competence in culture, language, and gender issues is evidenced in the staffing, organization, and products of the conference.

Section D: Appropriateness of the Evaluation Plan (10 points)

• Describe your plan for evaluation of conference planning, content, and outcome.

• Describe how the proposed evaluation (for instance, the methods and instruments used) is appropriate to the culture and values of the attendees, as well as how it ensures that the interpretation of findings will be accurate.

• If you are applying for a conference grant from CSAP, state your agreement to comply with the GPRA reporting requirements to be provided in the terms and conditions of the grant awards from CSAP. If you are applying for a conference grant from CMHS, state your agreement to comply with the GPRA reporting requirements provided in Appendix B. If applying for a conference grant from CSAT, discuss how you will comply with the GPRA requirements (including a 30-day follow up with a minimum of 80% of all baseline participants followed up) specified in Appendix A of this document).

In addition applicants should describe any prior experience in conducting follow-up surveys, use and effect (if any) of incentives in the prior activities, and the specific methods (including incentives) to achieve an 80% response rate for the follow-up surveys.

Note: Although the budget for the proposed project is not a review criterion, the Review Group will be asked to comment on the appropriateness of the budget after the merits of the application have been considered.

2. Review and Selection Process

SAMHSA applications are peer-reviewed according to the review criteria listed above. For those programs where the individual award is over $100,000, applications must also be reviewed by the appropriate National Advisory Council.

Each of the SAMHSA Centers maintains responsibility for and makes funding decisions regarding conferences in its respective areas of expertise: services for treatment and prevention of mental illness are made by CMHS, substance abuse prevention are made by CSAP, and substance abuse treatment are made by CSAT. The Centers may combine funds to support conferences that simultaneously address mental health and substance abuse prevention and treatment issues.

Decisions to fund a grant are based on:

• Availability of funds.

• Strengths and weaknesses of the application as determined by a peer review committee.

• Balance among target population/issue and program size.

• After applying the aforementioned criteria, the following method for breaking ties: When funds are not available to fund all applications with identical scores, SAMHSA will make award decisions based on the application(s) that received the greatest number of points by peer reviewers on the evaluation criterion in Section V-1 with the highest number of possible points [Potential Significance of the Proposed Project-35 points]. Should a tie still exist, the evaluation criterion with the next highest possible point value will be used, continuing sequentially to the evaluation criterion with the lowest possible point value, should that be necessary to break all ties. If an evaluation criterion to be used for this purpose has the same number of possible points as another evaluation criterion, the criterion listed first in Section V-1 will be used first.

An applicant is eligible to receive funding from a particular Center (CMHS, CSAP, or CSAT) for only one conference annually.

Additional award criteria may be applied in future years to ensure responsive distribution of conference topics, cultural competence, and/or geographical locations. Funding considerations, when applicable, will be announced annually at SAMHSA's Web site: http://www.samhsa.gov/grants/.

VI. Award Administration Information

1. Award Notices

After your application has been reviewed, you will receive a letter from SAMHSA through postal mail that describes the general results of the review, including the score that your application received.

If you are approved for funding, you will receive an additional notice, the Notice of Grant Award, signed by SAMHSA's Grants Management Officer. The Notice of Grant Award is the sole obligating document that allows the grantee to receive Federal funding for work on the grant project. It is sent by postal mail and is addressed to the contact person listed on the face page of the application.

If you are not funded, you can re-apply if there is another receipt date for the program.

2. Administrative and National Policy Requirements

• You must comply with all terms and conditions of the grant award. SAMHSA's standard terms and conditions are available on the SAMHSA Web site (http://www.samhsa.gov/grants/2004/useful_info.asp).

• You will be held accountable for the information provided in the application. Failure to meet stated goals and objectives may result in suspension or termination of the grant award.

• In an effort to improve access to funding opportunities for applicants, SAMHSA is participating in the U.S. Department of Health and Human Services “Survey on Ensuring Equal Opportunity for Applicants.” This survey is included in the application kit for SAMHSA grants. Applicants are encouraged to complete the survey and return it, using the instructions provided on the survey form.

3. Reporting Requirements

3.1 Progress and Financial Reports

• Grantees must provide a final report. The final report must describe the conference, attendance, presentation, speakers, expenditures, and the conference evaluation must be submitted.

• Grantees must provide a final financial status reports. This report may be included as separate section of the final progress report or can be a separate document.

• SAMHSA will provide guidelines and requirements for these reports to grantees at the time of award. SAMHSA staff will use the information contained in the reports to determine the grantee's progress toward meeting its goals.

3.2 Government Performance and Results Act

The Government Performance and Results Act (GPRA) mandates accountability and performance-based management by Federal agencies. The performance requirements for SAMHSA's Conference Grants program are described in Section I-B under “Data and Performance Measurement” and listed in Appendices A, B, and C of this document.

3.3 Publications

If you are funded under this grant program, you are required to notify the Government Project Officer (GPO) and SAMHSA's Publications Clearance Officer (301-443-8596) of any materials based on the SAMHSA-funded project that are accepted for publication.

In addition, SAMHSA requests that grantees:

• Provide the GPO and SAMHSA Publications Clearance Officer with advance copies of publications.

• Include acknowledgment of the SAMHSA grant program as the source of funding for the project.

• Include a disclaimer stating that the views and opinions contained in the publication do not necessarily reflect those of SAMHSA or the U.S. Department of Health and Human Services, and should not be construed as such.

SAMHSA reserves the right to issue a press release about any publication deemed by SAMHSA to contain information of program or policy significance to the substance abuse treatment/substance abuse prevention/mental health services community.

VII. Agency Contacts

For questions on mental health topics, contact: David Morrissette, DSW, Center for Mental Health Services/SAMHSA, 5600 Fishers Lane, Room 11C-22, Rockville, MD 20857, (301) 443-3653. E-mail: dmorriss@samhsa.gov.

For questions on substance abuse treatment topics, contact: Kim Plavsic, Center for Substance Abuse Treatment/SAMHSA, 5515 Security Lane, Suite 740, Rockville, MD 20852, (301) 443-7916, E-mail: kplavsic@samhsa.gov.

For questions on substance abuse prevention topics, contact: Rosa I. Merello, Ph.D., Public Health Advisor, Center for Substance Abuse Prevention/SAMHSA, 5515 Security Lane, Suite 800, Rockville, MD 20852, Phone: (301) 443-7462, Email: rmerello@samhsa.gov.

For questions on grants management issues, contact: Kathleen Sample, Office of Program Services, Grants Management Branch/SAMHSA, 5600 Fishers Lane/Rockwall II, Room 630, Rockville, MD 20857, (301) 443-9667, E-mail: ksample@samhsa.gov.

Appendix A: CSAT's GPRA Requirements and Meeting Survey (Baseline and Follow-Up) Forms

The GPRA measures for CSAT Conference grantees are as follows:

• Number of events.

• Number of participants.

• Satisfaction with the events.

• Utilization of material and information to make a change in their practice as a result of the event. Grantees are expected to collect baseline (end of the event) GPRA data on all participants at Knowledge Application (KA) events (meetings). In addition, the grantee is expected to conduct a 30-day follow up to the events with a minimum 80% of all baseline participants followed up. Applicants should consider this requirement when preparing the evaluation budget section of the application.

Your experience may indicate that the use of modest incentives will be necessary to achieve the required 80% response rate for each client follow up interview.

CSAT's GPRA Meeting Survey forms are included as part of this appendix. These forms, as well as CSAT's GPRA Strategy are also available on the Web at the following address: http://www.csat-gpra.samhsa.gov. Click on General Information for the GPRA Strategy. For the Surveys, click on Data Collection Tools/Instructions, click on Knowledge Application Program, then click on Data Collection Tools.

CSAT will provide usernames and passwords to grantees as well as data collection and follow-up training. All grantees must collect GPRA data and enter the data via the Web site.

BILLING CODE 4162-20-P

BILLING CODE 4162-20-C

Appendix C: Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review. In addition to these formatting requirements, programmatic requirements (e.g., relating to eligibility) may be stated in the specific funding announcement. Please check the entire funding announcement before preparing your application.

—Use the PHS 5161-1 application.

—Applications must be received by the application deadline. Applications received after this date must have a proof of mailing date from the carrier dated at least 1 week prior to the due date. Private metered postmarks are not acceptable as proof of timely mailing. Applications not received by the application deadline or not postmarked at least 1 week prior to the application deadline will not be reviewed.

—Information provided must be sufficient for review.

—Text must be legible.

• Type size in the Project Narrative cannot exceed an average of 15 characters per inch, as measured on the physical page. (Type size in charts, tables, graphs, and footnotes will not be considered in determining compliance.)

• Text in the Project Narrative cannot exceed 6 lines per vertical inch.

—Paper must be white paper and 8.5 inches by 11.0 inches in size.

—To ensure equity among applications, the amount of space allowed for the Project Narrative cannot be exceeded.

• Applications would meet this requirement by using all margins (left, right, top, bottom) of at least one inch each, and adhering to the page limit for the Project Narrative stated in the specific funding announcement.

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

—The page limit for Appendices cannot be exceeded.

To facilitate review of your application, follow these additional guidelines. Failure to adhere to the following guidelines will not, in itself, result in your application being screened out and returned without review. However, the information provided in your application must be sufficient for review. Following these guidelines will help ensure your application is complete, and will help reviewers to consider your application.

—The 10 application components required for SAMHSA applications should be included. These are:

• Face Page (Standard Form 424, which is in PHS 5161-1).

• Abstract.

• Table of Contents.

• Budget Form (Standard Form 424A, which is in PHS 5161-1).

• Project Narrative and Supporting Documentation.

• Appendices.

• Assurances (Standard Form 424B, which is in PHS 5161-1).

• Certifications (a form within PHS 5161-1).

• Disclosure of Lobbying Activities (Standard From LLL, which is in PHS 5161-1).

• Checklist (a form in PHS 5161-1).

—Applications should comply with the following requirements:

• Provisions relating to confidentiality, participant protection and the protection of human subjects specified in Section IV-2.4 of the specific funding announcement.

• Budgetary limitations as specified in Sections I, II, and IV-5 of the specific funding announcement.

• Documentation of nonprofit status as required in the PHS 5161-1.

—Pages should be typed single-spaced with one column per page.

—Pages should not have printing on both sides.

—Please use black ink and number pages consecutively from beginning to end so that information can be located easily during review of the application. The cover page should be page 1, the abstract page should be page 2, and the table of contents page should be page 3. Appendices should be labeled and separated from the Project Narrative and budget section, and the pages should be numbered to continue the sequence.

—Send the original application and two copies to the mailing address in the funding announcement. Please do not use staples, paper clips, and fasteners. Nothing should be attached, stapled, folded, or pasted. Do not use any material that cannot be copied using automatic copying machines. Odd-sized and oversized attachments such as posters will not be copied or sent to reviewers. Do not include videotapes, audiotapes, or CD-ROMs.

Appendix D: Glossary

Conference: A conference is a regional workshop or any other organized and formal meeting lasting 1 or more days where persons assemble to exchange information about the science and practice of substance abuse and/or mental health identification, treatment, and prevention. Conferences must be open to a broad constituency of interests and skills that include providers, practitioners, researchers, advocates, consumers, family members, and the general public.

Conferences that focus on a single audience, such as training sessions for volunteers or practitioners, or seminars for researchers, do not fit this definition.

Cost-Sharing or Matching: Cost-sharing refers to the value of allowable non-Federal contributions toward the allowable costs of a Federal grant project or program. Such contributions may be cash or in-kind contributions. For SAMHSA grants, cost-sharing or matching is not required, and applications will not be screened out on the basis of cost-sharing. However, applicants often include cash or in-kind contributions in their proposals as evidence of commitment to the proposed project. This is allowed, and this information may be considered by reviewers in evaluating the quality of the application.

Grant: A grant is the funding mechanism used by the Federal Government when the principal purpose of the transaction is the transfer of money, property, services, or anything of value to accomplish a public purpose of support or stimulation authorized by Federal statute. The primary beneficiary under a grant or cooperative agreement is the public, as opposed to the Federal Government.

In-Kind Contribution: In-kind contributions toward a grant project are non-cash contributions (e.g., facilities, space, services) that are derived from non-Federal sources, such as State or sub-State non-Federal revenues, foundation grants, or contributions from other non-Federal public or private entities.

Practice: A practice is any activity, or collective set of activities, intended to improve outcomes for people with or at risk for substance abuse and/or mental illness. Such activities may include direct service provision, or they may be supportive activities, such as efforts to improve access to and retention in services, organizational efficiency or effectiveness, community readiness, collaboration among stakeholder groups, education, awareness, training, or any other activity that is designed to improve outcomes for people with or at risk for substance abuse or mental illness.

Practice Support System: This term refers to contextual factors that affect practice delivery and effectiveness in the pre-adoption phase, delivery phase, and post-delivery phase, such as (a) community collaboration and consensus building, (b) training and overall readiness of those implementing the practice, and (c) sufficient ongoing supervision for those implementing the practice.

Stakeholder: A stakeholder is an individual, organization, constituent group, or other entity that has an interest in and will be affected by a proposed grant project.

Dated: March 25, 2004.
Margaret M. Gilliam,
Acting Director, Office of Policy Planning and Budget, Substance Abuse and Mental Health Services Administration.

[FR Doc. 04-7269 Filed 3-31-04; 8:45 am]

BILLING CODE 4162-20-P